DEPARTMENT OF THE TREASURY

United States Mint

Exchange of Coin

AGENCY: United States Mint, Treasury.

ACTION: Notice of Change in Numismatic Customer Return Policy.

SUMMARY: The United States Mint has modified its Numismatic Customer Return Policy to address the issue of excessive returns. Effective immediately, the United States Mint reserves the right to limit or refuse a return or to charge a fee for excessive returns. In addition, the United States Mint reserves the right to suspend accounts of customers with a pattern of excessive returns.

DATES: This change is applicable upon publication.

FOR FURTHER INFORMATION CONTACT: Cortez Carrington, Numismatic and Bullion Directorate, United States Mint, at (202) 354-6679; or cortez.carrington@usmint.treas.gov.

SUPPLEMENTARY INFORMATION:

The revised policy may be reviewed in its entity at https://catalog.usmint.gov/customer-service/faqs/. A press release explaining the policy modification is available at https://www.usmint.gov/news/press-releases.

Dated: March 6, 2018.
David Croft,
Acting Deputy Director, United States Mint.

[FR Doc. 2018-05002 Filed 3-12-18; 8:45 am]

BILLING CODE P